DEPARTMENT OF HEALTH AND HUMAN SERVICES

Advisory Council on Alzheimer's Research, Care, and Services; Meeting

AGENCY: Assistant Secretary for Planning and Evaluation, HHS.

ACTION: Notice of meeting.

SUMMARY: This notice announces the public meeting of the Advisory Council on Alzheimer's Research, Care, and Services (Advisory Council). The Advisory Council provides advice on how to prevent or reduce the burden of Alzheimer's disease and related dementias on people with the disease and their caregivers. During the first meeting of 2026, HHS will introduce and swear in a new slate of Advisory Council members. Federal agencies will provide an overview of their work under the National Alzheimer's Project Act since 2011, and the Advisory Council will discuss a plan for updating the National Plan to Address Alzheimer's Disease for 2026-2035. The meeting will also include presentations on innovative approaches in Alzheimer's disease interventions.

DATES: The meeting will be held on Monday, February 9, 2026, from 10:00 a.m. to 4:30 p.m.

ADDRESSES: The meeting will be a hybrid of in-person and virtual and will be held in the Great Hall of the Hubert H. Humphrey Building, 200 Independence Avenue SW, Washington, DC 20201. It will also stream live at www.hhs.gov/live.

Comments: Time is allocated on the agenda to hear public comments from 4:00 p.m. to 4:25 p.m. The time for oral comments will be limited to two (2) minutes per individual. To provide a public comment, please register by emailing your name to napa@hhs.gov by Monday, February 2, 2026. Registered commenters will receive both a dial-in number and a link to join the meeting virtually; individuals will have the choice to either join virtually via the link, or to call in only by using the dial-in number. Note: There may be a 30-45 second delay in the livestream video presentation of the conference. For this reason, if you have pre-registered to submit a public comment, it is important to connect to the meeting by 3:45 p.m. to ensure that you do not miss your name and allotted time when called. If you miss your name and allotted time to speak, you may not be able to make your public comment. Public commenters will not be admitted to the virtual meeting before 3:30 p.m. but are encouraged to watch the meeting at www.hhs.gov/live. Should you have questions during the session, please email napa@hhs.gov and someone will respond to your message as quickly as possible.

To ensure accuracy, please submit a written copy of oral comments for the record by emailing napa@hhs.gov by Wednesday, February 11, 2026. These comments will be shared on the website and reflected in the meeting minutes.

In lieu of oral comments, formal written comments may be submitted for the record by Wednesday, February 11, 2026, to Maria-Theresa Okafor, Ph.D., MCG, OASPE, 200 Independence Avenue SW, Room 438F.7, Washington, DC 20201. Comments may also be sent to napa@hhs.gov. Those submitting written comments should identify themselves and any relevant organizational affiliations.

FOR FURTHER INFORMATION CONTACT: Maria-Theresa Okafor, 771-223-7102, maria-theresa.okafor@hhs.gov. Note: The meeting will be available to the public live at www.hhs.gov/live.

SUPPLEMENTARY INFORMATION: Notice of these meetings is given under the Federal Advisory Committee Act (5 U.S.C. App. 2, section 10(a)(1) and (a)(2)). Topics of the Meeting: Alzheimer's disease-related dementias, risk reduction, and research.

Procedure and Agenda: The meeting will be webcast at www.hhs.gov/live and video recordings will be added to the National Alzheimer's Project Act website when available after the meeting. This meeting is open to the public. Please allow 30 minutes to go through security and walk to the meeting room. Participants joining in person should note that seating may be limited. Those wishing to attend the meeting in person must send an email to napa@hhs.gov and put “February Meeting Attendance” in the subject line by Monday, February 2 so that their names may be put on a list of expected attendees and forwarded to the security officers at the Department of Health and Human Services. Any interested member of the public who is a non-U.S. citizen should include this information at the time of registration to ensure that the appropriate security procedure to gain entry to the building is carried out. Although the meeting is open to the public, procedures governing security and the entrance to Federal buildings may change without notice. If you wish to make a public comment, you must note that within your email. Please note that individuals entering HHS owned, leased, or operated facilities must present a REAL ID compliant credential or another federally approved form of identification. Below is the list of acceptable forms of ID.

• State-issued Enhanced Driver's License

• U.S. passport

• U.S. passport card

• DHS trusted traveler cards (Global Entry, NEXUS, SENTRI, FAST)

• U.S. Department of Defense ID, including IDs issued to dependents

• Permanent resident card

• Border crossing card

• An acceptable photo ID issued by a federally recognized Tribal Nation/Indian Tribe, including Enhanced Tribal Cards (ETCs)

• HSPD-12 PIV card

• Foreign government-issued passport

• Canadian provincial driver's license or Indian and Northern Affairs Canada card

• Transportation worker identification credential

• U.S. Citizenship and Immigration Services Employment Authorization Card (I-766)

• U.S. Merchant Mariner Credential

• Veteran Health Identification Card (VHIC)

Authority: 42 U.S.C. 11225; Section 2(e)(3) of the National Alzheimer's Project Act. The panel is governed by provisions of Public Law 92-463, as amended (5 U.S.C. Appendix 2), which sets forth standards for the formation and use of advisory committees.

Laina Bush,
Deputy Assistant Secretary for Planning and Evaluation (Science and Data Policy) Performing the Delegable Duties of the Assistant Secretary for Planning and Evaluation Department of Health and Human Services.

[FR Doc. 2026-01217 Filed 1-22-26; 8:45 am]

BILLING CODE 4150-05-P